DEPARTMENT OF COMMERCE

International Trade Administration

[A-583-830]

Stainless Steel Plate in Coils From Taiwan; Preliminary Results and Rescission in Part of Antidumping Duty Administrative Review

AGENCY: Import Administration, International Trade Administration, Department of Commerce.

DATES: February 7, 2002.

ACTION: Notice of the Preliminary Results and Rescission in Part of Antidumping Duty Administrative Review.

SUMMARY: On June 19, 2001, the Department of Commerce (“Department”) published a notice of initiation of an antidumping duty administrative review on stainless steel plate in coils from Taiwan. This review covers two manufacturers/exporters of the subject merchandise, Yieh United Steel Corporation (“YUSCO”), a Taiwan producer and exporter of subject merchandise, and Ta Chen Stainless Pipe Co., Ltd. (“Ta Chen”), a Taiwan exporter of subject merchandise. The period of review (“POR”) is May 1, 2000 through April 30, 2001.

For the reasons provided in the “Facts Available” section of this notice, we have preliminarily determined that YUSCO's antidumping rate be based on total adverse facts available due to YUSCO's failure to participate in this proceeding. Therefore, for YUSCO, we applied the highest margin rate determined in prior segments of this proceeding. We are preliminarily rescinding this review with respect to Ta Chen based on record evidence supporting the conclusion that there were no entries into the United States of subject merchandise during the POR. (For a discussion of the preliminary rescission as to Ta Chen, see “Preliminary Rescission of Review in Part” section of this notice.)

FOR FURTHER INFORMATION CONTACT: Doreen Chen or James C. Doyle, Enforcement Group III, Office 9, Import Administration, International Trade Administration, U.S. Department of Commerce, 1401 Constitution Avenue, NW., Washington, DC 20230, telephone 202-482-0193 (Chen) or 202-482-0159 (Doyle), fax 202-482-1388.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR part 351 (2001).

Background

On May 21, 1999, the Department of Commerce (“Department”) published the antidumping duty order on stainless steel plate in coils from Taiwan. See Antidumping Duty Orders; Certain Stainless Steel Plate in Coils From Belgium, Canada, Italy, the Republic of Korea, South Africa, and Taiwan, 64 FR 27756 (May 21, 1999). On August 1, 2001, the Department published a notice of opportunity to request an administrative review of this order for the period May 1, 2000 through April 30, 2001. See Antidumping or Countervailing Duty Order, Finding, or Suspended Investigation; Opportunity to Request Administrative Review, 66 FR 39729 (August 1, 2001). Petitioners Allegheny Ludlum, AK Steel Corporation, Butler Armco Independent Union, J&L Specialty Steel, Inc., North American Stainless, United Steelworkers of America, AFL-CIO/CLC, and Zanesville Armco Independent Organization (collectively “petitioners”) timely requested that the Department conduct an administrative review of sales by YUSCO, a Taiwan producer and exporter of subject merchandise, and Ta Chen, a Taiwan exporter of subject merchandise. On June 19, 2001, in accordance with section 751(a) of the Act, the Department published in the Federal Register a notice of initiation of this antidumping duty administrative review of sales by YUSCO and Ta Chen for the period May 1, 2000 through April 30, 2001. See Initiation of Antidumping and Countervailing Duty Administrative Reviews and Requests for Revocations in Part, 66 FR 32934 (July 19, 2001). On July 10, 2001, the Department issued its antidumping duty questionnaire to YUSCO and Ta Chen. On August 2, 2001, Ta Chen stated that it did not have any U.S. sales, shipments or entries of subject merchandise during the POR, and requested that it not be required to answer the Department's questionnaire. YUSCO did not respond to the Department's antidumping questionnaire.

Scope of the Review

For purposes of this review, the product covered is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this review are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process. The merchandise subject to this review is currently classifiable in the HTS at subheadings: 7219.11.00.30, 7219.11.00.60, 7219.12.00.05, 7219.12.00.20, 7219.12.00.25, 7219.12.00.50, 7219.12.00.55, 7219.12.00.65, 7219.12.0070, 7219.12.00.80, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTS subheadings are provided for convenience and Customs purposes, the written description of the merchandise under investigation is dispositive.

Period of Review

The POR is May 1, 2000 through April 30, 2001.

Preliminary Rescission of Review in Part

The Department preliminarily finds that Ta Chen had no entries during the POR. Thus, the Department is preliminarily rescinding this review.

Pursuant to 19 CFR 351.213(d)(3), the Department may rescind an administrative review, in whole or with respect to a particular exporter or producer, if the Secretary concludes that, during the period covered by the review, there were no entries, exports, or sales of the subject merchandise. The Department explained this practice in the preamble to the Department's regulations. See Antidumping Duties; Countervailing Duties; 62 FR 27314, 27314 (May 19, 1997); (“Preamble”):

Because of the respondent's inability to tie entries to sales, the Department normally must base its review on sales made during the period of review. Where a respondent can tie its entries to its sales, we potentially can trace each entry of subject merchandise to unaffiliated customers, and we conduct the review on that basis. However, the determination of whether to review sales of merchandise entered during the period of review hinges on such case-specific factors ....[including] whether a respondent has been able to link sales and entries previously for prior review periods and whether it appears likely that the respondent will continue to be able to link sales and entries in future reviews.

This is the second administrative review of Ta Chen under this order. In the first administrative review, Ta Chen certified that of the POR resales, none of the merchandise entered the U.S. after the commencement of the POR - in other words, after the initial suspension of liquidation during the investigation. The Department has previously determined that “(s)ales of merchandise that can be demonstrably linked with entries prior to the suspension of liquidation are not subject merchandise and therefore are not subject to review by the Department.” See Certain Stainless Wire Rod From France: Final Results of Antidumping Duty Administrative Review, 61 FR 47874, 47875 (September 11, 1996); Preamble at 271314. The Department conducted a Customs inquiry and determined in the first administrative review to its satisfaction on the record that there were no entries of subject merchandise during the POR. See Stainless Steel Plate in Coils from Taiwan: Final Rescission of Antidumping Duty Administrative Review, 66 FR 18610, 18612 (April 10, 2001). The Department, therefore, rescinded the review.

In this review, Ta Chen has certified that of POR resales from its U.S. affiliate Ta Chen International's (TCI) U.S. warehouse inventory, all merchandise entered before the POR. The Department therefore conducted a Customs inquiry and confirmed, to its satisfaction, that there were no entries of subject merchandise during the POR. Because there were no entries during this POR, nor the last POR, we are satisfied that Ta Chen has successfully linked its POR resales to entries that not only precede the POR, but also precede the suspension of liquidation.

Therefore, pursuant to 19 CFR 351.213(d)(3), the Department is preliminarily rescinding this review because we find that there were no entries of subject merchandise during the POR.

Facts Available

Section 776(a)(2) of the Act provides that if an interested party withholds information that has been requested by the Department, fails to provide such information in a timely manner or in the form requested, significantly impedes a proceeding under the antidumping statute, or provides information that cannot be verified, the Department shall use facts available in reaching the applicable determination. In selecting from among the facts otherwise available, section 776(b) of the Act authorizes the Department to use an adverse inference if the Department finds that a party has failed to cooperate by not acting to the best of its ability to comply with requests for information. See The Statement of Administrative Action to the URAA, H. Doc. 103-316 (1994) at 870 (“SAA”).

We preliminarily find, in accordance with section 776(a) of the Act, that the use of facts available is appropriate for YUSCO. We confirmed that YUSCO received, but failed to respond to, the Department's questionnaire. Since YUSCO has failed to provide any information for our review on the record, the use of facts available is appropriate. Therefore, in accordance with section 776(a)(2) of the Act, we preliminarily determine that the use of total facts available is appropriate.

As noted above, in selecting facts otherwise available, pursuant to section 776(b) of the Act, the Department may use an adverse inference if the Department finds that an interested party, such as YUSCO in this case, failed to cooperate by not acting to the best of its ability to comply with requests for information. Consistent with Department practice in cases where a respondent fails to cooperate to the best of its ability, and in keeping with section 776(b)(3) of the Act, as adverse facts available we have applied a margin based on the highest margin from this or any prior segment of the proceeding. See Certain Cased Pencils From the People's Republic of China; Preliminary Results and Rescission in Part of Antidumping Duty Administrative Review, 67 FR 2402, 2407 (January 17, 2002). In this case, the highest margin from any segment of the proceeding is 8.02 percent, the petition rate in the less-than-fair-value (LTFV) investigation.

Section 776(c) of the Act requires the Department to corroborate, to the extent practicable, secondary information used as facts available. Secondary information is described in the SAA as “[i]nformation derived from the petition that gave rise to the investigation or review, the final determination concerning the subject merchandise, or any previous review under section 751 concerning the subject merchandise.” SAA at 870. The SAA further provides that “corroborate” means simply that the Department will satisfy itself that the secondary information to be used has probative value. Thus, to corroborate secondary information, to the extent practicable, the Department will examine the reliability and relevance of the information used. In the investigation, the Department determined that the petition margin was fully corroborated by examining the key elements of the U.S. price and normal value calculations on which the petition margin was based and then comparing the sources used in the petition to YUSCO's reported sales databases. Notice of Final Determination of Sales at Less Than Fair Value: Stainless Steel Plate in Coils From Taiwan, 64 FR 15493, 15497 (March 31, 1999). This petition rate was applied to YUSCO in the investigation. For purposes of this administrative review, we have reviewed the petition, information and the administrative record, and found no reason to believe that the reliability of this information should be called into question. Further, the Department finds the administrative record of this review does not contain information which indicates that the application of the petition rate would be inappropriate in the instant review. Therefore, we find that the petition rate is sufficiently reliable and relevant to YUSCO for the present review.

Where circumstances indicate that the selected margin is not appropriate as adverse facts available, the Department will disregard the margin and determine an appropriate margin. See Fresh Cut Flowers from Mexico; Final Results of Antidumping Duty Administrative Review, 61 FR 6812, 6814 (February 22, 1996) (where the Department disregarded the highest margin for use as adverse facts available because the margin was based on another company's uncharacteristic business expense, resulting in an unusually high margin). In this review, we are not aware of any circumstances that would render the use of the margin selected for YUSCO as inappropriate.

Preliminary Results of Review

As a result of our review, we preliminarily determine that the following margin exists for the period May 1, 2000 through April 30, 2001:

Manufacturer/­Exporter | Margin­(percent)
YUSCO | 8.02

Any interested party may request a hearing within 30 days of publication. Any hearing, if requested, will be held 37 days after the date of publication, or the first working day thereafter. Interested parties may submit case briefs and/or written comments no later than 30 days after the date of publication. Rebuttal briefs and rebuttals to written comments, limited to issues raised in such briefs or comments, may be filed no later than 35 days after the date of publication. The Department will publish the final results of this administrative review, which will include the results of its analysis of issues raised in any such written comments or at a hearing, within 120 days after the publication of this notice.

Assessment Rate

In the event these preliminary results are made final, we intend to assess antidumping duties on YUSCO's entries at the same rate as the dumping margin (i.e., 8.02 percent) since the margin is not a current calculated rate for the respondent, but a rate based upon total facts available pursuant to section 776(a) of the Act.

Cash Deposit

The Department shall determine, and the Customs Service shall assess, antidumping duties on all appropriate entries. Upon completion of this review, the Department will issue appraisement instructions directly tot he Customs Service. Furthermore, the following deposit requirements will be effective for all shipments of the subject merchandise entered, or withdrawn from warehouse, for consumption on or after the publication date of the final results of these administrative reviews, as provided by section 751(a)(1) of the Act: (1) the cash deposit rate for YUSCO will be the rate established in the final results of this administrative review (no deposit will be required for a zero or de minimis margin, i.e., a margin lower than 0.5 percent); (2) for merchandise exported by manufacturers or exporters not covered in this review but covered in a previous segment of this proceeding, the cash deposit rate will continue to be the company-specific rate published for the most recent segment; (3) if the exporter is not a firm covered in this review, a prior review, or the original investigation, but the manufacturer is, the cash deposit rate will be the rate established for the most recent period for the manufacturer of the merchandise; and (4) If neither the exporter nor the manufacturer is a firm covered in this or any previous review conducted by the Department, the cash deposit rate will continue to be the “all other” rate established in the LTFV investigation, which was 7.39 percent. See Notice of Final Determination of Sales at Less Than Fair Value and Antidumping Duty Order; Stainless Steel Sheet and Strip in Coils from Taiwan, 64 FR 15493 (March 31, 1999). These deposit requirements, when imposed, shall remain in effect until publication of the final results of the next administrative review.

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice is published in accordance with sections 751(a)(1) and 777(i)(1) of the Act.

January 31, 2002.
Faryar Shirzad,
Assistant Secretary for Import Administration.

[FR Doc. 02-2989 Filed 2-6-02; 8:45 am]

BILLING CODE 3510-DS-S